ENVIRONMENTAL PROTECTION AGENCY

[FRL-6583-9]

Agency Information Collection Activities: Submission for OMB Review; Comment Request; Resource Conservation and Recovery Act (RCRA) Corrective Action Information Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: RCRA Corrective Action Information Request (EPA ICR No. 1939.01). The ICR describes the nature of the information collection and its expected burden and cost; where appropriate, it includes the actual data collection instrument.

DATES: Comments must be submitted on or before May 22, 2000.

FOR FURTHER INFORMATION CONTACT: For a copy of the ICR contact Sandy Farmer at EPA by phone at (202) 260-2740, by email at farmer.sandy@epamail.epa.gov, or download off the Internet at http://www.epa.gov/icr and refer to EPA ICR No. 1939.01. For technical questions about the ICR contact Heather Harris at (703) 308-6101.

SUPPLEMENTARY INFORMATION: Title: Resource Conservation and Recovery Act (RCRA) Corrective Action Information Request (EPA ICR No. 1939.01). This is a new collection.

Abstract: This information collection is in response to an April 15, 1999 request from Congress concerning the RCRA Corrective Action program. Included in this inquiry were certain questions which only the state offices have the information to answer. EPA intends to obtain this information from the states by means of a questionnaire. The questionnaire includes facility specific questions on all RCRA Cleanup Baseline facilities, enforcement orders, state authority, and federal funding. Responses to this request will be mandatory and all information will be used to respond to Congress and to provide an accurate picture of the current state of the program. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 12/16/99; 2 comments were received and discussed in the ICR.

Burden Statement: The annual public reporting and recordkeeping burden for this collection of information is estimated to average 7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State environment offices where RCRA Corrective Action is authorized (33).

Estimated Number of Respondents: 1100.

Frequency of Response: One time only.

Estimated Total Annual Hour Burden: 1068 hours.

Estimated Total Annualized Capital and Operating & Maintenance Cost Burden: $0.

Send comments on the Agency's need for this information, the accuracy of the provided burden estimates, and any suggested methods for minimizing respondent burden, including through the use of automated collection techniques to the following addresses. Please refer to EPA ICR No. 1939.01 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: April 17, 2000.
Oscar Morales,
Director, Collection Strategies Division.

[FR Doc. 00-10036 Filed 4-20-00; 8:45 am]

BILLING CODE 6560-50-P